DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) modified
Unincorporated Areas of Siskiyou County, California
Docket Nos.: FEMA-B-7762, FEMA-B-7795, and FEMA-B-1053
California | Unincorporated Areas of Siskiyou County | Oregon Slough | City of Montague and Unincorporated Siskiyou County corporate limits | +2503
|  |  | Approximately 0.4 mile downstream of Ager Road | +2515
|  |  | Approximately 325 feet downstream of Ager Road | +2523
California | Unincorporated Areas of Siskiyou County | Panther Creek (shallow flooding) | Shallow flooding areas between Squaw Valley Creek and McCloud River Railroad | #1, #3
California | Unincorporated Areas of Siskiyou County | Panther Creek (shallow flooding) | Approximately 1,200 feet southwest of the intersection of Squaw Valley Road and State Route 89 (flooding extends west towards Modoc Avenue) | #2
California | Unincorporated Areas of Siskiyou County | Panther Creek Overflow (shallow flooding) | Immediately south of and adjacent to State Route 89, starting near the intersection of Squaw Valley Road and State Route 89 (flooding encompasses portions of both sides of Squaw Valley Road for approximately 3,000 feet) | #2
California | Unincorporated Areas of Siskiyou County | Squaw Valley Creek | At the downstream side of Cemetery Road | +3094
|  |  | Approximately 100 feet upstream of McCloud River Railroad | +3403
California | Unincorporated Areas of Siskiyou County | Squaw Valley Creek (shallow flooding) | Shallow flooding areas between Cemetery Road and McCloud River Railroad | #1, #3
* National Geodetic Vertical Datum.
+ North American Vertical Datum.
# Depth in feet above ground.
∧ Mean Sea Level, rounded to the nearest 0.1 meter.
ADDRESSES
Unincorporated Areas of Siskiyou County
Maps are available for inspection at the Siskiyou County Public Health and Community Development Department, 806 South Main Street, Yreka, CA.

Flooding source(s) | Location of referenced elevation | * Elevation in feet (NGVD) + Elevation in feet (NAVD) # Depth in feet above ground ‸ Elevation in meters (MSL) modified | Communities affected
Cherokee County, Alabama, and Incorporated Areas
Docket No.: FEMA-B-1080
Coosa River | Approximately 1,080 feet downstream of State Route 35 | +575 | Town of Gaylesville.
| Approximately 2.0 miles upstream of State Route 35 | +579
Weiss Lake | Entire shoreline | +573 | Town of Cedar Bluff.
* National Geodetic Vertical Datum.
+ North American Vertical Datum.
# Depth in feet above ground.
‸ Mean Sea Level, rounded to the nearest 0.1 meter.
ADDRESSES
Town of Cedar Bluff
Maps are available for inspection at 3420 Spring Street, Cedar Bluff, AL 35959.
Town of Gaylesville
Maps are available for inspection at 4740 Main Street, Gaylesville, AL 35973.
City and County of Honolulu, Hawaii
Docket No.: FEMA-B-1076
Pacific Ocean | Approximately 1,275 feet north of the intersection of Lihue Drive and Plantation Road | ‸1 | City and County of Honolulu.
| Approximately 5,025 feet southeast of the intersection of Poipu Drive and Nawilliwilli Street | ‸81
Pacific Ocean/Pearl Harbor | Approximately 700 feet east of the intersection of Wasp Boulevard and Lexington Boulevard | #2 | City and County of Honolulu.
| Approximately 600 feet south of the intersection of Lehua Avenue and Coral Avenue | #2
| Approximately 880 feet northwest of the intersection of Kamehameha Street and Kalaloa Street | #1
| Approximately 325 feet southeast of the intersection of Ibis Avenue and Heron Avenue | #2
| Approximately 3,250 feet southwest of the intersection of Plantation Road and Waipio Point Access Road | #2
| Approximately 450 feet east of the intersection of 101st Street and Heron Avenue | ‸1
| Approximately 1,775 feet southwest of the intersection of Signer Boulevard and 2nd Street | ‸11
| Approximately 1,565 feet south of the intersection of Signer Boulevard and 2nd Street | #2
* National Geodetic Vertical Datum.
+ North American Vertical Datum.
# Depth in feet above ground.
‸ Mean Sea Level, rounded to the nearest 0.1 meter.
ADDRESSES
City and County of Honolulu
Maps are available for inspection at the Honolulu City and County Emergency Management Department, 650 South King Street, Honolulu, HI 96813.
Vermilion Parish, Louisiana, and Incorporated Areas
Docket Nos.: FEMA-B-7773 and FEMA-B-7786
Gulf of Mexico | Base Flood Elevation changes of 7 feet in the form of VE-Zones | +7 | Town of Gueydan.
Gulf of Mexico | Base Flood Elevation changes ranging from 9 to 11 feet in the form of AE- and VE-Zones | +9-11 | Town of Delcambre.
Gulf of Mexico | Base Flood Elevation changes ranging from 10 to 13 feet in the form of AE- and VE-Zones | +10-13 | Town of Erath.
Gulf of Mexico | Base Flood Elevations changes ranging from 11 to 18 feet in the form of AE- and VE-Zones | +11-18 | Unincorporated Areas of Vermilion Parish.
Gulf of Mexico | At the confluence of the Gulf of Mexico and Vermilion Bay | +15 | Unincorporated Areas of Vermilion Parish.
| Entire coastline east of the intersection with Rollover Bayou | +17
Vermilion Bay | At the divergence from the Gulf of Mexico | +14 | Unincorporated Areas of Vermilion Parish.
| At the confluence with the Gulf of Mexico | +15
* National Geodetic Vertical Datum.
+ North American Vertical Datum.
# Depth in feet above ground.
‸ Mean Sea Level, rounded to the nearest 0.1 meter.
ADDRESSES
Town of Delcambre
Maps are available for inspection at 107 North Railroad Street, Delcambre, LA 70528.
Town of Erath
Maps are available for inspection at 115 West Edwards Street, Erath, LA 70533.
Town of Gueydan
Maps are available for inspection at 600 Main Street, Gueydan, LA 70542.
Unincorporated Areas of Vermilion Parish
Maps are available for inspection at 100 North State Street, Suite 200, Abbeville, LA 70510.
Ransom County, North Dakota, and Incorporated Areas
Docket No.: FEMA-B-1053
Sheyenne River | Approximately 1,064 feet upstream of the Richland County boundary | +990 | City of Fort Ransom, City of Lisbon, Unincorporated Areas of Ransom County.
| Approximately 7,465 feet downstream of State Highway 46 | +1160
* National Geodetic Vertical Datum.
+ North American Vertical Datum.
# Depth in feet above ground.
‸ Mean Sea Level, rounded to the nearest 0.1 meter.
ADDRESSES
City of Fort Ransom
Maps are available for inspection at P.O. Box 17, Fort Ransom, ND 58033.
City of Lisbon
Maps are available for inspection at P.O. Box 1079, Lisbon, ND 58054.
Unincorporated Areas of Ransom County
Maps are available for inspection at 204 5th Avenue West, Lisbon, ND 58054.
Crawford County, Ohio, and Incorporated Areas
Docket No.: FEMA-B-1078
Sandusky River | Approximately 0.8 mile downstream of Gay Street | +970 | Unincorporated Areas of Crawford County.
| Approximately 0.6 mile downstream of U.S. Route 30 | +985
Zuber Ditch | Approximately 0.6 mile upstream of the confluence with the Olentangy River | +1131 | Unincorporated Areas of Crawford County.
| Approximately 900 feet downstream of North Market Street | +1131
* National Geodetic Vertical Datum.
+ North American Vertical Datum.
# Depth in feet above ground.
‸ Mean Sea Level, rounded to the nearest 0.1 meter.
ADDRESSES
Unincorporated Areas of Crawford County
Maps are available for inspection at the Crawford County Administration Building, 112 East Mansfield Street, Bucyrus, OH 44820.
Gallia County, Ohio, and Incorporated Areas
Docket No.: FEMA-B-1083
Campaign Creek (backwater effects from Ohio River) | Approximately 640 feet upstream of Bulaville Pike | +571 | Unincorporated Areas of Gallia County.
| Approximately 0.7 mile upstream of Bulaville Pike | +571
Clear Fork (backwater effects from Ohio River) | At the confluence with Raccoon Creek | +566 | Unincorporated Areas of Gallia County.
| Approximately 0.6 mile downstream of State Route 141 | +566
Little Swan Creek (backwater effects from Ohio River) | At the confluence with Swan Creek | +561 | Unincorporated Areas of Gallia County.
| Approximately 0.7 mile upstream of the confluence with Swan Creek | +561
Raccoon Creek | Approximately 1.9 mile downstream of State Route 160 in the Village of Vinton | +605 | Unincorporated Areas of Gallia County, Village of Vinton.
| Approximately 0.8 mile upstream of State Route 160 in the Village of Vinton | +613
Raccoon Creek (backwater effects from Ohio River) | Approximately 0.6 mile upstream of the confluence with Little Raccoon Creek | +566 | Unincorporated Areas of Gallia County.
| Approximately 0.7 mile upstream of Lincoln Pike | +566
Swan Creek (backwater effects from Ohio River) | Approximately 1,020 feet downstream of Swan Creek Road | +561 | Unincorporated Areas of Gallia County.
| Approximately 1,360 feet downstream of Peters Branch Road | +561
* National Geodetic Vertical Datum.
+ North American Vertical Datum.
# Depth in feet above ground.
‸ Mean Sea Level, rounded to the nearest 0.1 meter.
ADDRESSES
Unincorporated Areas of Gallia County
Maps are available for inspection at 111 Jackson Pike, Suite 1569, Gallipolis, OH 45631.
Village of Vinton
Maps are available for inspection at 111 Jackson Pike, Suite 1569, Gallipolis, OH 45631.
Huron County, Ohio, and Incorporated Areas
Docket No.: FEMA-B-1080
East Branch Huron River | Approximately 50 feet downstream of Norfolk and Western Railroad | +666 | Unincorporated Areas of Huron County.
| Approximately 0.5 mile downstream of West Main Street | +672
| Approximately 50 feet downstream of West Main Street | +674
| Just downstream of State Route 61 | +677
Norwalk Creek | Just downstream of State Route 61 | +677 | Unincorporated Areas of Huron County.
| Approximately 1,800 feet upstream of State Route 61 | +680
Norwalk Creek | Approximately 700 feet downstream of Southwest Street | +688 | City of Norwalk, Unincorporated Areas of Huron County.
| Approximately 400 feet downstream of East Elm Street | +709
* National Geodetic Vertical Datum
+ North American Vertical Datum.
# Depth in feet above ground.
‸ Mean Sea Level, rounded to the nearest 0.1 meter.
ADDRESSES
City of Norwalk
Maps are available for inspection at 38 Whittlesey Avenue, Norwalk, OH 44857.
Unincorporated Areas of Huron County
Maps are available for inspection at 8 Fair Road, Norwalk, OH 44857.

(Catalog of Federal Domestic Assistance No. 97.022, “Flood Insurance.”)

Dated: October 29, 2010.
Sandra K. Knight,
Deputy Federal Insurance and Mitigation Administrator, Mitigation, Department of Homeland Security, Federal Emergency Management Agency.

[FR Doc. 2010-28227 Filed 11-8-10; 8:45 am]

BILLING CODE 9110-12-P